DEPARTMENT OF HEALTH AND HUMAN SERVICES

Office of the Secretary

Office of Assistant Secretary for Administration and Management and Office of the Assistant Secretary for Resources and Technology; Statement of Organization, Functions, and Delegations of Authority

AGENCY: Office of the Secretary, HHS.

ACTION: Notice.

SUMMARY: The Department of Health and Human Services (HHS) is reorganizing a portion of two offices, the Office of the Assistant Secretary for Resources and Technology (ASRT) and the Office of the Assistant Secretary for Administration and Management (ASAM), both of which are located within the Office of the Secretary (OS). The reorganization is designed to increase the efficiency and effectiveness of these two offices by consolidating the resource-related functions, including budget, grants, acquisition, finance, and the American Recovery and Reinvestment Act (Recovery Act) coordination, under ASRT and the administrative functions under ASAM. The titles of the Assistant Secretary for Resources and Technology (ASRT) and the Assistant Secretary for Administration and Management (ASAM) will also be changed to the Assistant Secretary for Financial Resources (ASFR) and Assistant Secretary for Administration (ASA), respectively. This reorganization also will transfer support for the Office of Small & Disadvantaged Business Utilization (OSDBU) from ASAM to ASRT, while maintaining the Office's same direct-line reporting structure to the Deputy Secretary. Finally, this reorganization will transfer direct-line reporting of the Office of the Chief Information Office from ASRT to the Deputy Secretary while moving day-to-day support for OCIO from ASRT to ASA.

FOR FURTHER INFORMATION CONTACT: E.J. Holland, Jr., Assistant Secretary for Administration, 200 Independence Ave., SW., Washington, DC 20201, (202) 690-7431 or Richard Turman, Acting Assistant Secretary for Financial Resources, 200 Independence Ave., SW., Washington, DC 20201, (202) 690-6061.

Part A, Office of the Secretary, Statement of Organization, Functions and Delegations of Authority for the Department of Health and Human Services (HHS) is being amended at Chapter AM, “Office of the Assistant Secretary for Resources and Technology (ASRT),” as last amended at 74 FR 18238-39, dated April 21, 2009, 73 FR 31486, dated June 2, 2008, 71 FR 38884-88, dated July 10, 2006, and 66 FR 55666, dated November 2, 2001, and at Chapter AJ, “Office of the Assistant Secretary for Administration and Management (ASAM),” as last amended at 74 FR 297-301, dated January 5, 2009, at 72 FR 40155-40157, dated July 23, 2007, and at 72 FR 2282-2283, dated January 18, 2007.

The changes are as follows:

1. Under Chapter AM, “Office of the Assistant Secretary for Resources and Technology,” make the following changes:

A. Retitle all references to the “Assistant Secretary for Resources and Technology (ASRT)” as the “Assistant Secretary for Financial Resources (ASFR).”

B. Under Section AM.00 Mission, delete in its entirety and replace with the following:

Section AM.00 Mission. The mission of the Office of Financial Resources (OFR) is to advise the Secretary on all aspects of budget, grants, financial management and acquisition and to provide for the direction of these activities throughout HHS. ASFR also coordinates HHS' implementation and reporting regarding the American Recovery and Reinvestment Act (Recovery Act).

C. Under Section AM.10 Organization, delete in its entirety and replace with the following:

Section AM.10 Organization. The Office of Financial Resources is headed by the Assistant Secretary for Financial Resources (ASFR), who has several formal and informal roles, including Chief Financial Officer (CFO), Chief Acquisition Officer, HHS audit follow-up official, and lead official for budget and grants. The Assistant Secretary also is a close advisor to the Secretary on policy issues. ASFR accomplishes its work through its component offices:

• Immediate Office of the Assistant Secretary (AM).

• Office of Budget (AML).

• Office of Finance (AMS).

• Office of Grants and Acquisition Policy and Accountability (AMT).

• Office of Recovery Act Coordination (AMV).

D. Under Section AM.20 Functions, delete “Chapter AMM, Office of the Chief Information Officer,” in its entirety.

E. Under Section AM.20 Functions, delete “Chapter AMT, Office of Grants (AMT)” in its entirety and replace with the following:

Chapter AMT, Office of Grants and Acquisition Policy and Accountability (AMT).

Section AMT.00 Mission. The Office of Grants and Acquisition Policy and Accountability (OGAPA) provides Department-wide leadership and management in the areas of grants and acquisition management through policy development, data systems operations and analysis, performance measurement, oversight and workforce training, development, and certification. OGAPA fosters collaboration, innovation, and accountability in the administration and management of the grants and acquisition functions throughout the Department. In addition to facilitating Departmental implementation of and compliance with existing grants and acquisition laws and regulations, OGAPA provides Departmental and government-wide leadership on implementation of the Federal Financial Accountability and Transparency Act (FFATA) for grant and acquisition activities. OGAPA is the organizational location for Grants.gov, which provides a Government- wide electronic portal for citizens to “Find” and “Apply” for Federal grant opportunities. OGAPA represents the Department in dealing with the Office of Management and Budget (OMB), U.S. Government Accountability Office (GAO), other Federal agencies, and Congress in the area of grants (to include mandatory and discretionary grants administration and electronic grants systems) and acquisition management.

Section AMT.10 Organization. OGAPA is headed by a Deputy Assistant Secretary for Grants and Acquisition Policy and Accountability who reports to the Assistant Secretary for Financial Resources. OGAPA consists of the following components:

• Immediate Office of Grants and Acquisition Policy and Accountability (AMT).

• Division of Grants (AMT1).

○ Office of Grants Policy, Oversight & Evaluation (AMT11).

○ Office of Grants Systems & Modernizations (AMT12).

• Division of Acquisition (AMT2).

○ Office of Acquisition Policy (AMT21).

○ Office of Acquisition Program Support (AMT22).

• Office of Small & Disadvantaged Business Utilization (AMT3).

Section AMT.20 Functions.

1. Immediate Office of Grants and Acquisition Policy and Accountability (AMT). The Immediate Office of Grants and Acquisition Policy and Accountability consists of the Deputy Assistant Secretary and support staff who assist in the management and administration of the Office's functions.

2. Division of Grants (AMT1). The Division of Grants is headed by an Associate Deputy Assistant Secretary who serves as the Division Director and provides leadership, policy, guidance, oversight, and coordination of HHS grants management practices and its supporting grants management systems. The Division supports government-wide grants management initiatives, as well as outreach to grantors and grantees and interface with HHS agencies, OMB, the Federal Chief Information Officers (CIO) Council, the Grants Policy Council and Grants Executive Board, and HHS leadership on the Grants.gov systems and Tracking Accountability in Government Grants Systems (TAGGS), as appropriate. The Division also provides technical assistance to the Operating Divisions (OPDIVs) and evaluates effectiveness of the Department's grant programs, including the development of performance standards and grant processing systems. The Division of Grants (AMT1) consists of the following components:

○ Office of Grants Policy, Oversight & Evaluation (AMT11).

○ Office of Grants Systems & Modernizations (AMT12).

a. Office of Grants Policy, Oversight & Evaluation (AMT11). The Office of Grants Policy, Oversight and Evaluation (OGPOE) is headed by a Director. The Office formulates, oversees, and evaluates Department-wide implementation of grants policies governing the award and management of grants throughout HHS, in support of existing laws, regulations, and OMB Circulars. Additionally, OGPOE: (a) Develops and implements HHS grants management regulations and publishes new policies and modifications in the HHS Grants Policy Directives (GPDs), including all directives necessary to implement new intergovernmental and HHS policies; (b) Represents the Department and serves as its liaison in interagency grants policy and management activities; maintains working relationships with OMB, U.S. General Services Administration (GSA), GAO and other Federal agencies to coordinate and assist in the development of proposed legislation and policy; and (c) Develops strategy and related training opportunities to enhance the career development of grants management professionals both within the Department and Government-wide so as to facilitate the hiring and retention of a well qualified and fully certified workforce of grants management professionals.

b. Office of Grants Systems & Modernizations (AMT12). The Office of Grants Systems & Modernization (OGSM) is headed by a Director. The organization consists of the following components:

○ Grants.gov Program Management Office (AMT121).

○ Grants Management Systems Branch (AMT122).

i. Grants.gov Program Management Office (AMT121). The Grants.gov Program Management Office (GPMO) is headed by a Program Manager and provides leadership to Federal and non-Federal members of the Grant Community as the system manager of Grants.gov—the government-wide central portal where citizens can find and apply for Federal grants. The GPMO manages the full life cycle of Grants.gov system operations and maintenance including short-term and long-term enhancement activities to ensure users have a reliable system to find and apply for Federal grants. In addition, the GPMO: (a) Collects and evaluates user requirements and as appropriate integrates these adaptations into system change requests which are planned and executed according to government-wide capital planning and investment control practices; (b) Leads a government-wide collaborative effort to design, build and implement the “next generation” of Grants.gov; (c) Manages and collects funds to support the full lifecycle of Grants.gov system operations, maintenance and enhancement activities; (d) Serves as a liaison to ensure coordination with OMB, Federal CIO Council, Grants Policy Committee, Grants Executive Board and HHS leadership and other oversight organizations on the government-wide electronic grants initiative; (e) Manages the clearance and revision of government-wide grant forms and data elements used on Grants.gov; and (f) Conducts and coordinates outreach and training for grants management professionals, grantees and grantors on the use and capabilities of Grants.gov.

ii. Grants Management Systems (AMT122). The Grants Management Systems Branch (GMSB) is headed by a Branch Chief. This Branch plans, directs and coordinates the activities of the Division of Grants with respect to Departmental implementation of all electronic grants initiatives, such as: TAGGS, Government-wide Grants Management Line of Business, as well as management of select Grants Internet and Intranet sites. GMSB represents the Department or the Division of Grants on matters of electronic assistance administration policy in dealing with recipients, OMB, other Federal agencies, and the public in general and leads Departmental coordination of grants system activities in support of the Federal Financial Accountability and Transparency Act including system interfaces with USASpending.gov.

3. Division of Acquisition (AMT2). The Division of Acquisition is headed by an Associate Deputy Assistant Secretary, who serves as the Division Director, and provides management direction and leadership, policy, guidance, and supervision to constituent organizations, and coordinates long and short-range planning. The Division also provides technical assistance to the Department's OPDIVs, evaluates effectiveness of the acquisition programs and processes, develops pertinent HHS-wide performance standards, maintains Departmental contract information, and conducts special Departmental initiatives. It also serves as the focal point for cross-cutting Freedom of Information Act (FOIA) requests and audits regarding acquisition. The Division Director serves as the Department's Senior Procurement Executive and leads the Department's Executive Committee for Acquisition. The Division of Acquisition (AMT2) consists of the following components:

○ Office of Acquisition Policy (AMT21).

○ Office of Acquisition Program Support (AMT22).

a. Office of Acquisition Policy (AMT21). The Office of Acquisition Policy (OAP) is headed by a Director. The Office provides leadership in the area of acquisition through policy development and implementation and workforce planning, development, and training. The Office is responsible for formulating Department-wide acquisition policies governing acquisition activities, publishing and maintaining the HHS Acquisition Regulation (HHSAR), participating in government-wide acquisition rule-making through the Civilian Agency Acquisition Council, providing advice and technical assistance on matters related to HHS acquisition programs, managing workforce development issues for the Department's acquisition workforce, managing the Departmental Contract Information System; and monitoring the adoption of acquisition policies by the Department's OPDIVs and Staff Divisions (STAFFDIVs) to ensure consistent policy interpretation.

b. Office of Acquisition Program Support (AMT22). The Office of Acquisition Program Support (OAPS) is headed by a Director and provides advice, oversight and support regarding operational acquisition and business practices and issues. This Office conducts procurement management reviews, promotes consistent and standardized business practices, and facilitates and improves the acquisition system by: (a) Developing innovative processes and tools; (b) Acquiring, adopting, tailoring and sharing best practices; (c) Leading the Department's Strategic Sourcing Program and the acquisition aspects of the environmental program; (d) Providing expert consultation services; and (e) Managing the Department's Government Purchase Card Program. The Office serves as the Department's liaison relating to acquisition issues for OMB, Congress, GAO and the Office of the Inspector General (OIG) when requested.

4. Office of Small & Disadvantaged Business Utilization (AMT3). The Office of Small & Disadvantaged Business Utilization (OSDBU) fosters the use of small business as Federal contractors pursuant to Public Law 95-507 and is also referred to within HHS as the Office of Small Business Programs (OSBP). OSDBU manages the development and implementation of appropriate outreach programs aimed at heightening the awareness of the small business community to the contracting opportunities available within HHS. OSDBU issues policy and guidance on all small business programs for HHS. The Director of OSDBU reports directly to the Deputy Secretary and is administratively supported by OGAPA. OSDBU: (1) Provides leadership, policy, guidance and supervision, as well as coordinating short- and long-range strategic planning for the Secretary and the Deputy Secretary to assure that small business vendors have a fair opportunity to compete for and receive business with the Department; (2) Has responsibility within the Department for policy, plans, and oversight to execute the functions under Sections 8 & 15 of the Small Business Act; (3) Provides leadership to the development and assessment of the Department's programs and policies to develop a unified small business voice; (4) Publishes and maintains the HHS Small Business Program Policy Manual (SBPPM); (5) Collaborates with the acquisition and program offices of HHS to ensure compliance with the Small Business Act, the Federal Acquisition Regulation (FAR) and the HHSAR; (6) Prepares documentation and reports to the Executive Office of the President, Congress, OMB, the Small Business Administration, and other agencies, as required; (7) Provides input for coordinated Department positions on proposed legislation and Government regulations on matters affecting cognizant socioeconomic programs and maintains liaison with Congress through established Department channels; (8) Is responsible for the Departmental review and evaluation of planned procurement by program and procurement offices to ensure that Small Business Programs are given thorough consideration throughout the decision-making process; and (9) Builds strong relationships with internal, as well as, external stakeholders and partners of HHS.

2. Under Chapter AJ, “Office of the Assistant Secretary for Administration and Management,” make the following changes:

A. Retitle all references to the “Assistant Secretary for Administration and Management (ASAM)” as the “Assistant Secretary for Administration (ASA)”

B. Under Section AJ.00 Mission, delete in its entirety and replace with the following:

Section AJ.00 Mission. The Office of Assistant Secretary for Administration (OASA) performs for the Secretary the administrative functions of the Department. Manages the human resources, equal employment opportunity, information resources management, logistics and travel policies and programs, and general administrative activities of the Department and other administrative duties as assigned from time to time. Provides leadership and oversight direction to the activities of the Program Support Center.

C. Under Section AJ.10 Organization, delete in its entirety and replace with the following:

Section AJ.10 Organization. The Office of the Assistant Secretary for Administration is under the direction of the Assistant Secretary for Administration, who reports to the Secretary, and consists of the following components:

• Immediate Office (AJ).

• Office of Human Resources (AJA).

• OS Executive Office (AJC).

• Office for Facilities Management and Policy (AJE).

• Office of the Chief Information Officer (AJG).

• Office of Diversity Management & Equal Employment Opportunity (AJI).

• Office of Business Transformation (AJJ).

• Program Support Center (P).

D. Under Section AJ.20 Functions, delete “Office of Acquisition Management and Policy (AJG)” in its entirety and replace with the following:

Office of the Chief Information Officer (AJG). Section AJG.00 Mission. The Office of the Chief Information Officer (OCIO) advises the Secretary and the ASA on matters pertaining to the use of information and related technologies to accomplish Departmental goals and program objectives. The mission of the Office is to establish and provide: assistance and guidance on the use of technology-supported business process reengineering; investment analysis; performance measurement; strategic development and application of information systems and infrastructure; policies to provide improved management of information resources and technology; and better, more efficient service to our clients and employees.

Section AJG.10 Organization. The Office of the Chief Information Officer (OCIO) is headed by the Deputy Assistant Secretary for Information Technology (DASIT)/HHS Chief Information Officer (CIO), who reports to the Deputy Secretary. The HHS CIO serves as the primary IT leader for the Department. The OCIO consists of the following components:

• Immediate Office (AJG).

• Office of Resources Management (AJG1).

• Office of Enterprise Architecture (AJG2).

• Office of Enterprise Project Management (AJG3).

• Office of Information Technology Security (AJG4).

Section AJG.20 Functions.

1. The Immediate Office of the Chief Information Officer (AJG). The Immediate Office of the Chief Information Officer (OCIO) supports the DASIT/CIO and also provides leadership in OS Information Technology (IT) issues, HHS IT architecture, HHS IT security, and the use of technology in HHS.

2. Office of Resources Management (AJG1). The Office of Resources Management (ORM) is headed by the Director, Office of Resources Management and is responsible for OCIO Business Operations. The Office advises the CIO and OCIO managers on matters relating to OCIO operations, HHS information collection, HHS policy development and interpretation, development of the OCIO budget and HHS IT workforce development.

3. Office of Enterprise Architecture (AJG2). The Office of Enterprise Architecture (OEA) is headed by the Director, Office of Enterprise Architecture who is also the HHS Chief Enterprise Architect and supports all planning and enterprise programs that fall under the OCIO.

4. Office of Enterprise Project Management (AJG3). The Office of Enterprise Project Management (OEPM) is headed by the Director, Office of Enterprise Project Management who is the senior technical advisor to the HHS CIO on the implementation of information technology, and in that role works closely in support of the HHS Chief Technology Officer. The Director, OEPM, supports the design, development, configuration, integration and implementation of all HHS enterprise information technology projects that fall under the Office of the Chief Information Officer.

5. Office of Information Technology Security (AJG4). The Office of Information Technology Security (OITS) is headed by the Director, (OITS), who is also the HHS Chief Information Security Officer (CISO), who manages the HHS Security Program. The Office provides management leadership in IT security policy and guidance, expert advice and collaboration among the OPDIVs and the STAFFDIVs in developing, promoting and maintaining IT security measures to adequately and cost effectively protect and ensure the confidentiality, integrity and timely availability of all data and information in the custody of the Department, as well as of the information systems required to meet the Department's current and future business needs.

E. Under Section AJ.20 Functions, delete “Office of Small and Disadvantaged Business Utilization (AJH)” in its entirety.

F. Under Section AJ.20 Functions, “Office of Business Transformation (AJJ),” delete “Section AJJ.00 Mission” in its entirety and replace with the following:

Section AJJ.00 Mission. The Office of Business Transformation (OBT) provides results-oriented strategic and analytical support for key management initiatives and coordinates the business mechanisms necessary to account for the performance of these initiatives and other objectives as deemed appropriate. OBT also oversees the implementation of commercial services activities Department-wide, as a tool to generate savings and improve efficiencies, and provides technical assistance to the OPDIVs and evaluates effectiveness of their business-centric programs, including the development of performance standards. OBT also will be responsible for integrating the work performed by ASA in the areas of business process reengineering, core business mission activities, responsibility and investment matters as determined by ASA. These include travel and logistics policies and programs. As part of its business process reengineering services, OBT will conduct the review process for reorganization and delegation of authority proposals for the Office of the Secretary (OS) that require the Secretary's or designees' signature.

G. Under Section AJ.20 Functions, “Office of Business Transformation (AJJ),” delete “Section AJJ.10 Organization” in its entirety and replace with the following:

Section AJJ.10 Organization. The Office of Business Transformation (OBT), headed by a Deputy Assistant Secretary who reports directly to the Assistant Secretary for Administration consists of the following components:

○ Division of Strategic Initiatives (AJJ1).

○ Division of Commercial Services Management (AJJ2).

○ Division of Travel Policy and Programs (AJJ3).

○ Division of Logistics Policy and Programs (AJJ4).

○ Division of Organizational Reengineering (AJJ5).

H. Under Section AJ.20 Functions, “Office of Business Transformation (AJJ),” “Section AJJ.20 Functions,” immediately after “2. Division of Commercial Services Management (AJJ2)” insert the following:

3. Division of Travel Policy and Programs (AJJ3). The Division of Travel Policy and Programs is headed by a Director and provides leadership in the area of travel through HHS policy development and oversight through coordination with OMB, the General Services Administration (GSA), and the Office of Government Ethics regarding government-wide travel program requirements. The Division provides quality guidance, advice and assistance, information, training, and best practices for managing HHS travel.

4. Division of Logistics Policy and Programs (AJJ4). The Division of Logistics Policy and Programs is headed by a Director and provides leadership in the area of logistics through HHS policy development and oversight and through coordination with OMB, GSA, the Department of Energy (DOE), and other Federal agencies regarding government-wide logistics requirements. This Division is dedicated to improving HHS' management of assets, personal property, equipment, inventory, fleet, transportation, and investments for logistics management information systems.

5. Division of Organizational Reengineering (AJJ5). The Division of Organizational Reengineering is headed by a Director who administers and oversees the Department's system for review, approval, and documentation of reorganization and delegation of authority proposals.

I. Under Section AJ.20 Functions, “Office of Diversity Management and Equal Employment Opportunity (AJI),” delete” Section AJI.10 Organization” in its entirety and replace with the following:

Section AJI.10 Organization. The Office of Diversity Management and Equal Employment Opportunity (ODME) is headed by a Director for ODME, who reports directly to the Assistant Secretary for Administration, and consists of the following components:

○ Diversity Management Division (AJI1).

○ Equal Employment Opportunity (EEO) Programs Division (AJI2).

○ Division of EEO Program Evaluation and Policy (AJI3).

J. Under Section AJ.20 Functions, “Office of Diversity Management and Equal Employment Opportunity (AJI),” “Section AJI.20 Functions,” immediately after “2. Equal Employment Opportunity (EEO) Programs Division (AJI2)” insert the following:

3. Division of EEO Program Evaluation and Policy (AJI3). The Division of EEO Program Evaluation and Policy (DEPEP): (a) Provides leadership in developing and promoting improved analytical tools and methods for evaluating EEO and workforce diversity data, including strategic planning; (b) Ensures OPDIV EEO Offices are aligned with ASAM and HHS polices and strategic plans; (c) Manages ODME's continuous improvement program, the internal controls process (A-123) for ODME; ODME's key performance indicators; Departmental EEO policy development; and the preparation of the Equal Employment Opportunity Commission (EEOC) Form 462 report; and (d) Prepares the Department's annual Management Directive 715 (MD-715) report to the EEOC and keeps HHS officials apprised of workforce demographics, complaints activity, and barriers to equal employment opportunity and recommending possible solutions as appropriate.

3. Delegation of Authority. Pending further redelegation, directives or orders made by the Secretary, ASFR or ASA, all delegations and redelegations of authority made to officials and employees of affected organizational components will continue in them or their successors pending further redelegations, provided they are consistent with this reorganization.

Dated: November 1, 2009.
Kathleen Sebelius,
Secretary.

[FR Doc. E9-26963 Filed 11-6-09; 8:45 am]

BILLING CODE 4150-04-P